DEPARTMENT OF ENERGY

Federal Energy Regulatory Commission

[Docket No. IC00-80-001, FERC Form No. 80]

Information Collection Submitted for Review and Request for Comments

December 7, 2000.

AGENCY: Federal Energy Regulatory Commission, DOE.

ACTION: Notice of submission for review by the Office of Management and Budget (OMB) and request for comments.

SUMMARY: The Federal Energy Regulatory Commission (“Commission”) has submitted the energy information collection listed in this notice to Office of Management and Budget (OMB) for review under provisions of section 3507 of the Paperwork Reduction Act of 1995 (Public Law 104-13). Any interested person may file comments on the collection of information directly with OMB and should address a copy of those comments to the Commission as explained below. The Commission received no comments in response to an earlier Federal Register notice of September 5, 2000 (65 FR 53707) and has made this notation in its submission to OMB.

DATES: Comments regarding this collection of information are best assured of having their full effect if received on or before January 16, 2001.

ADDRESSES: Address comments to Office of Management and Budget, Office of Information and Regulatory Affairs, Attention: Federal Energy Regulatory Commission, Desk Officer, 725 17th Street, NW, Washington, DC 20503. A copy of the comments should also be sent to Federal Energy Regulatory Commission, Division of Information Services, Attention: Mr. Michael Miller, 888 First Street NE, Washington, DC 20426.

FOR FURTHER INFORMATION CONTACT: Michael Miller may be reached by telephone at (202) 208-1415, by fax at (202) 208-2425, and by e-mail at mike.miller@ferc.fed.us.

SUPPLEMENTARY INFORMATION

Description

The energy information collection submitted to OMB for review contains:

1. Collection of Information: FERC Form No. 80 “Licensed Hydro Power Development Recreation Report”.

2. Sponsor: Federal Energy Regulatory Commission.

3. Control No.: OMB No. 1902-0106. The Commission is now requesting that OMB approve a three-year extension of the current expiration date, with no changes to the existing collection. There is an increase in the reporting burden due to a change of status for this information collection. Form 80 is currently in “standby” status as the respondents file once every six years and one hour has been assigned to it. Form 80 will be collected again in 2002 or during the next potential OMB review period. The Commission has noted this adjustment in burden in its submission to OMB. These are mandatory collection requirements. The Commission does not consider this information to be confidential.

4. Necessity of Collection of Information: Submission of the information is necessary to enable the Commission to carry out its responsibilities in implementing the provisions of the Federal Power Act (FPA). The information reported under Commission identifier FERC Form 80 is filed in accordance with sections 4(a), 10(a), 301(a), 304, and 309(FPA). The Commission issues licenses for nonfederal hydro power projects and monitors these projects to ensure the conditions of the license are being met. The Commission's licensing and post-licensing processes have the multiple intent of maintaining power generation, enhancing and protecting the environment, and enhancing recreational assets of water resources. Hydro power facilities provide tangible benefits to the regions where they are located. These benefits include additional recreational opportunities, economic benefits through commercial development and the generation of electricity without the use of fossil fuels. At the same time, operation of hydro power projects can adversely affect resources such as water quality, fishery resources, water-based recreational uses, terrestrial and cultural enhancing environmental resources. Submission of the data as required may be found in 18 CFR 811. and 141.14.

5. Respondent Description: The respondent universe currently comprises on average, 400 respondents filing the recreation report.

6. Estimated Burden: 1,200 total burden hours, 400 respondents, 1 response sexennial, 30 hours per response (average).

7. Estimated Cost Burden to Respondents: 1,200 hours ÷ 2,080 hours per year × $115,357 per year = $66,552. The cost per respondent is $166.

Statutory Authority: Sections 4(a), 10(a), 301(a), 304 and 309 of the Federal Power Act (FPA), 16 U.S.C. 797-825h.

Linwood A. Watson, Jr.,
Acting Secretary.

[FR Doc. 00-31858 Filed 12-13-00; 8:45 am]

BILLING CODE 6717-01-M